DEPARTMENT OF EDUCATION

RIN 1820 ZA26

National Institute on Disability and Rehabilitation Research

AGENCY: Office of Special Education and Rehabilitative Services, Department of Education.

ACTION: Notice of final priorities (NFP) on improving employment outcomes.

SUMMARY: The Assistant Secretary for Special Education and Rehabilitative Services announces final priorities under the Rehabilitation Research and Training Centers (RRTC) Program for the National Institute on Disability and Rehabilitation Research (NIDRR). The Assistant Secretary may use one or more of these priorities for competitions in fiscal year (FY) 2004 and later years. We take this action to focus research attention on areas of national need. We intend these priorities to improve employment-related rehabilitation services and outcomes for individuals with disabilities.

EFFECTIVE DATE: These final priorities are effective June 24, 2004.

FOR FURTHER INFORMATION CONTACT: Donna Nangle, U.S. Department of Education, 550 12th Street, SW., room 6046, Potomac Center Plaza, Washington, DC 20202. Telephone: (202) 205-5880 or via Internet: donna.nangle@ed.gov.

If you use a telecommunications device for the deaf (TDD), you may call the TDD number at (202) 205-4475.

Individuals with disabilities may obtain this document in an alternative format (e.g., Braille, large print, audiotape, or computer diskette) on request to the contact person listed under FOR FURTHER INFORMATION CONTACT.

SUPPLEMENTARY INFORMATION:

Rehabilitation Research and Training Centers

RRTCs conduct coordinated and integrated advanced programs of research targeted toward the production of new knowledge to improve rehabilitation methodology and service delivery systems, alleviate or stabilize disability conditions, or promote maximum social and economic independence for persons with disabilities. Additional information on the RRTC program can be found at: http://www.ed.gov/rschstat/research/pubs/res-program.html#RRTC.

General Requirements of Rehabilitation Research and Training Centers

RRTCs must:

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties; and

• Serve as centers for national excellence in rehabilitation research for individuals with disabilities, their representatives, providers, and other interested parties.

The Department is particularly interested in ensuring that the expenditure of public funds is justified by the execution of intended activities and the advancement of knowledge and, thus, has built this accountability into the selection criteria. Not later than three years after the establishment of any RRTC, NIDRR will conduct one or more reviews of the activities and achievements of the RRTC. In accordance with the provisions of 34 CFR 75.253(a), continued funding depends at all times on satisfactory performance and accomplishment of approved grant objectives.

We published a notice of proposed priorities (NPP) for this program in the Federal Register on February 4, 2004 (69 FR 5327). The NPP included a background statement for these priorities at 69 FR 5329. This NFP contains significant differences from the NPP. We discuss these changes in the Analysis of Comments and Changes section published as an appendix to this notice.

Note: This notice does not solicit applications. In any year in which we choose to use one or more of these priorities, we invite applications through a notice in the Federal Register. When inviting applications we designate each priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Note: NIDRR supports the goals of President Bush's New Freedom Initiative (NFI). The NFI can be accessed on the Internet at the following site: http://www.whitehouse.gov/infocus/newfreedom/.

These final priorities are in concert with NIDRR's 1999-2003 Long-Range Plan (Plan). The Plan is comprehensive and integrates many issues relating to disability and rehabilitation research topics. While applicants will find many sections throughout the Plan that support potential research to be conducted under these final priorities, a specific reference is included for each priority presented in this notice. The Plan can be accessed on the Internet at the following site: http://www.ed.gov/rschstat/research/pubs/index.html.

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Priorities

The Assistant Secretary announces four priorities for the funding of RRTCs that will conduct research on improving employment outcomes of individuals with disabilities. These priorities are: Priority 1—Employment Policy and Individuals with Disabilities; Priority 2—Employment Service Systems; Priority 3—Workplace Supports and Job Retention; and Priority 4—Substance Abuse and Employment Outcomes.

Under each of these priorities, the RRTC must:

(1) Develop, implement, and evaluate a comprehensive plan for training critical stakeholders, e.g., individuals with disabilities and their family members, practitioners, service providers, researchers, and policymakers;

(2) Provide technical assistance to critical stakeholders to facilitate utilization of research findings; and

(3) Develop a systematic plan for widespread dissemination of informational materials based on knowledge gained from the RRTC's research activities, for individuals with disabilities, their representatives, service providers, and other interested parties.

In addition to the specific activities proposed by the applicant, each RRTC must:

• Conduct a state-of-the-science conference on its respective area of research in the third year of the grant cycle, including research from other sources, and publish a comprehensive report on the final outcomes of the conference in the fourth year of the grant cycle;

• Coordinate on research projects of mutual interest with relevant NIDRR-funded projects as identified through consultation with the NIDRR project officer;

• Involve persons with disabilities in planning and implementing the RRTC's research, training, and dissemination activities, and in evaluating the research;

• Demonstrate in its application how it will address, in whole or in part, the needs of individuals with minority backgrounds;

• Demonstrate how the RRTC project will yield measurable results for individuals with disabilities;

• Identify specific performance targets and propose outcome indicators, along with time lines to reach these targets;

• Demonstrate how the RRTC project can transfer research findings to practical applications in planning, policy-making, program administration, and delivery of services to individuals with disabilities;

• Consider the effect of demographics factors such as race/ethnicity and educational level and disability factors such as disability severity when conducting the research; and

• Articulate goals, objectives, and expected outcomes for the proposed research activities. It is critical that proposals describe expected public benefits, especially benefits for individuals with disabilities, and propose projects that are designed to demonstrate outcomes that are consistent with the proposed goals. Applicants must include information describing how they will measure outcomes, including the indicators that will represent the end-result, the mechanisms that will be used to evaluate outcomes associated with specific problems or issues, and how the proposed activities will support new intervention approaches and strategies, including a discussion of measures of effectiveness.

An RRTC must focus research on one of the following priorities:

Priority 1—Employment Policy and Individuals with Disabilities: The purpose of the priority on employment policy and individuals with disabilities is to improve information on the employment status of individuals with disabilities and the effects of legislative and policy initiatives on employment outcomes for such individuals. The research funded under this priority must be designed to contribute to the following outcomes:

• Improved understanding of employment trends for individuals with disabilities in relation to macroeconomic, legislative, and policy changes;

• Strategies for evaluating legislative and policy efforts to improve employment outcomes for individuals with disabilities; and

• Identification of policies that contribute to improved employment outcomes for individuals with disabilities.

The research resulting from this RRTC's program will provide guidance to policy-makers and others involved in efforts to improve employment outcomes for individuals with disabilities. The reference for this topic can be found in the Plan, chapter 3, Employment Outcomes: Economic Policy and Labor Market Trends.

Priority 2—Employment Service Systems: The purpose of the priority on employment service systems is to identify effective strategies that could be used by public and private employment service providers to improve employment outcomes for individuals with disabilities. Among public systems, the RRTC may include State vocational rehabilitation services and services provided under the Workforce Investment Act (WIA). Among private systems, the RRTC may include for-profit and non-profit employment service providers. The RRTC may propose research related to other public and private employment systems. The reference for this topic can be found in the Plan, chapter 3, Employment Outcomes: Community-Based Employment Service Programs and State Service Systems. The research funded under this priority must be designed to contribute to the following outcomes:

• Cost-effective strategies that enhance consumer access to services that improve employment outcomes;

• Effective strategies that enhance consumer satisfaction with services that improve employment outcomes;

• Effective simplified strategies for eligibility determination that promote access to services and improved customer satisfaction;

• Effective service system strategies for the provision of individualized services, and enhanced coordination of services at the individual level; and

• Effective strategies to improve employment outcomes for individuals with disabilities.

Priority 3—Workplace Supports and Job Retention: The purpose of the priority on workplace supports and job retention is to improve employment outcomes through the use of effective workplace supports and job retention strategies. The reference for this topic can be found in the Plan, chapter 3, Employment Outcomes: Employer Roles and Workplace Supports. The research funded under this priority must be designed to contribute to the following outcomes:

• Improved understanding of the use of workplace supports, accommodations, and strategies across a variety of work settings and with specific disability groups;

• Improved understanding of factors that impede the use of effective workplace supports and job retention strategies; and

• Identification of effective employer-based or workplace strategies or accommodations that improve employment outcomes and factors that influence improved employer understanding of these workplace strategies or accommodations.

Priority 4—Substance Abuse and Employment Outcomes: The purpose of the priority on substance abuse and employment outcomes is to improve employment outcomes for individuals with disabilities who also have substance abuse problems. The research funded under this priority must be designed to contribute to the following outcomes:

• Effective techniques for individuals and agencies providing employment-related services to individuals with disabilities to screen and identify those who have substance abuse problems; and

• Effective strategies to improve employment outcomes for individuals with disabilities who have substance abuse problems.

When conducting this work, the RRTC must examine strategies that are effective in both community and work settings (including community-based partnerships) and must examine the effects of workplace support and clinical treatment services, including substance use disorder treatment programs. The reference to this topic can be found in the Plan, chapter 2, Dimensions of Disability: Emerging Universe of Disability.

Executive Order 12866

This notice of final priorities has been reviewed in accordance with Executive Order 12866. Under the terms of the order, we have assessed the potential costs and benefits of this regulatory action.

The potential costs associated with the notice of final priorities are those resulting from statutory requirements and those we have determined as necessary for administering this program effectively and efficiently.

In assessing the potential costs and benefits—both quantitative and qualitative—of this notice of final priorities, we have determined that the benefits of the final priorities justify the costs.

Summary of potential costs and benefits:

The potential costs associated with these final priorities are minimal while the benefits are significant. Grantees may anticipate costs associated with completing the application process in terms of staff time, copying, and mailing or delivery. The use of e-Application technology reduces mailing and copying costs significantly.

The benefits of the RRTC Program have been well established over the years in that similar projects have been completed successfully. These final priorities will generate new knowledge through research, dissemination, utilization, training, and technical assistance projects.

The benefit of these final priorities will be the establishment of new RRTCs that generate, disseminate, and promote the use of new information to improve options and participation in the community for individuals with disabilities.

Applicable Program Regulations: 34 CFR part 350.

Electronic Access to This Document

You may review this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number: 84.133B, Rehabilitation Research and Training Center Program)

Program Authority: 29 U.S.C. 762(g) and 764(b)(2).

Dated: May 18, 2004.
Troy R. Justesen,
Acting Deputy Assistant Secretary for Special Education and Rehabilitative Services.

Appendix

Analysis of Comments and Changes

In response to our invitation in the NPP, we received 38 comments. An analysis of the comments and of the changes in the priorities since publication of the NPP follows. We discuss substantive issues under the title of the priority to which they pertain.

Generally, we do not address technical and other minor changes and suggested changes we are not authorized to make under the applicable statutory authority.

General

Discussion: On page 5328 of the NPP, under the section entitled General Requirements of Rehabilitation Research and Training Centers, we included a paragraph encouraging applicants, among other things, to include information in their applications about proposed goals, objectives, and expected outcomes for their research activities and how they will measure outcomes and the mechanisms they will use to evaluate outcomes. Based on our own review and comments received from OMB, we believe that we should require all applicants to provide this information to ensure that applicants are sufficiently focused on proposed objectives and outcomes of their research activities.

Change: We have modified the language in this paragraph to make the application requirements mandatory and, in the NFP, have inserted this paragraph as the last required activity in the bullet-point list of activities, listed in the Priorities section, which all RRTCs must conduct.

Comment: One commenter suggested that it appeared the discussion of the proposed priorities of the employment RRTCs omitted language focusing on the role of postsecondary education in the employment of persons with disabilities.

Discussion: We do not believe it is necessary to include language in the proposed priorities that focuses specifically on the role of postsecondary education in the employment of persons with disabilities. Applicants, however, are free to propose research activities in this area.

Changes: None.

Comment: Three commenters recommended that NIDRR add a Priority Five and title it New Freedom Initiative. The purpose of the priority would be to establish an RRTC to improve understanding of the impact of the NFI on States, local communities, employers, individuals with disabilities, and families. The commenters believed that the addition of this priority would respond to the focus of the Administration's efforts to build on the scope of changes resulting from the Americans with Disabilities Act of 1990 with the design and implementation of the NFI. The commenters further suggested that the establishment of such an RRTC would allow an applicant to focus on both specific multiple subgroups of the disability population and the evaluation of efforts related to these subgroups within the broad framework of the NFI. It was also suggested that this framework would not prioritize one subgroup over another, as proposed in Priority Four.

Discussion: NIDRR developed its priorities with the intent that they support the goals of the President's NFI. NIDDR intended that the proposed priorities allow an applicant the discretion to determine the target population that the proposed research and training activities will address, including research involving subgroups within populations. NIDRR does not believe that Priority Four favors one population over another. Rather, NIDRR believes that this priority allows applicants to address the needs and concerns of individuals with a diverse range of disability characteristics, substance abuse problems, and employment issues.

Changes: None.

Comment: One commenter noted an increased recognition of a distinct population of persons with disabilities who live with episodic disabilities, including persons with psychiatric disabilities; neurological disabilities, such as seizure disorders; HIV/AIDS; Multiple Sclerosis; and serious emotional and learning disabilities. The commenter expressed concern that the proposed priorities addressed a mixed population of persons with disabilities and believed the priorities should better define the populations according to common issues, barriers, policy, and interventions. It was further communicated that developmental and physical disabilities should not be part of a congregate grouping.

Discussion: NIDRR considers it unnecessary to specify the composition of the target population(s) of the research. NIDRR prefers to provide an applicant the discretion to identify the disability population(s) that its application will target and how it will focus its research activities on the specified population(s) within the context of the priority. NIDRR does not believe that the priorities as described preclude an applicant from proposing research and training activities that have a focus on specific populations and issues of research targeting multiple population groups in order to demonstrate common issues, barriers, policy, and interventions across disability groups or to conduct research on single or group disabilities that are characterized as being episodic. The peer review process will evaluate the merits of the approaches proposed in the application.

Changes: None.

Economic Research on Employment Policy and Individuals With Disabilities

Comment: Twenty-one commenters expressed concern about the primary focus of the RRTC on employment policy and individuals with disabilities. They suggested that the use of the word “economic” limited the ability of applicants to propose research and training activities that focus on aspects of policy that extend beyond the analyses of large data sets and economic methods. Commenters considered the relationship between public policy implementation and employment outcomes to be complex and encouraged NIDRR to revise the language in Priority One to focus generically on employment policy rather than economic research on employment policy and individuals with disabilities.

Discussion: NIDRR agrees that the focus of the priority on economic research is unnecessarily narrow and changed language in the priority to expand its focus. Because NIDRR believes that economics is a critical element of employment policy, we will retain language in the priority that requires an applicant to include research activities within the scope of its proposed project that address some aspect of employment trends for individuals with disabilities in relation to macroeconomic changes.

Changes: The language is revised to remove the word “Economic Research” from the title of the priority and to remove the word “economic research” from the purpose statement of the priority.

Comment: Twenty-one commenters suggested that the RRTC should address improving the quality and utility of research, providing practical applications to the policymaking process, and filling gaps in our understanding of the complex issues and factors affecting the employment of the heterogeneous population of persons with disabilities, including barriers for workplace participation and outcomes.

Discussion: NIDRR believes that the priority as described allows an applicant the flexibility to propose research activities that may improve the quality and utility of research, provide practical applications to the policy making process, and fill gaps in our understanding of issues and factors affecting the employment of persons with disabilities, including barriers for workplace participation and outcomes. While not precluded, NIDRR believes it is unnecessary to require all applicants to propose research activities as described by the commenters. NIDRR expects that all research activities that it supports will be of high quality, generate findings having utility, and fill gaps in our understanding of issues and factors influencing persons with disabilities. The peer review process will evaluate the merits of the research activities proposed in the application.

Changes: None.

Comment: One commenter recommended that the RRTC be required to look beyond the macro rate of employment trends toward developing an understanding of motivational factors associated with these trends and how they can facilitate the ability of policymakers to work effectively to abolish disincentives to work for people with disabilities and to better encourage employers to hire persons with disabilities.

Discussion: The language in the priority does not preclude research that focuses on investigating motivational factors associated with employment trends. The peer review process will evaluate the merits of the research and training activities proposed in the application. NIDRR has no basis for requiring that all applicants focus their research and training activities on motivational factors in response to this priority.

Changes: None.

Comment: One commenter suggested that NIDRR encourage the use of rigorous policy methods designed to assess the impact of specific policies and that these methods be in line with current standards of practice in policy analysis.

Discussion: NIDRR expects that the research will be rigorous and of high quality, but it is the responsibility of the applicant to delineate methods and standards that are relevant and appropriate to the research proposed. The peer review process will evaluate the merits of the methods and standards proposed in the application. NIDRR has no basis for specifying what these methods and standards should be.

Changes: None.

Comment: One commenter considered it important that this Center interact with the RRTC funded under Priority Two since a significant part of implementation of public policy occurs in the context of State service systems, and much of the emerging Federal policy requires significant change in the priorities, message, and structure of State and local service systems.

Discussion: The NPP included language that requires grantees to coordinate with relevant NIDRR-funded research projects of mutual interest as identified through consultation with the NIDRR project officer. The peer review process will evaluate the merits of the coordinative activities proposed in the application.

Changes: None.

Employment Service Systems

Comment: One commenter suggested that efforts be made to develop stakeholders and acquire human and capital resources from other non-disability sectors that might have an interest in efforts to improve employment outcomes for people with disabilities. The commenter also suggested that the inclusion of trade unions, employer associations, and business improvement districts could expand and help make employment a priority of entities other than the disability service system and consumers/advocates. It was further suggested that the processes of developing stakeholders and a common mission, forming collaborations, and demonstrating both employment outcomes and increased integration into the workplace and reduced stigma should be required in the priority.

Discussion: NIDRR believes that an applicant has the flexibility to propose research that includes the processes of developing stakeholders and acquiring human and capital resources from other non-disability sectors interested in improving employment outcomes for people with disabilities; expanding and helping make employment a priority of entities other than the disability services system and consumers/advocates; developing a common mission and collaborations; and demonstrating both employment outcomes and increased integration into the workplace and reduced stigma. The peer review process will evaluate the merits of the research strategies proposed in an application.

Changes: None.

Comment: One commenter noted that youth experience difficulties in accessing postsecondary education and employment following school completion. The commenter further noted the need to better align special education services with the adult workforce development system by focusing research activities on youth with disabilities in their transition from school to work.

Discussion: An applicant may propose the young adult population as its target population and the composition of employment service systems as the commenter describes. We prefer to provide an applicant the discretion to identify the target population and composition of employment service systems around which it elects to develop its research and training program. The peer review process will evaluate the merits of the research strategies proposed in an application. NIDRR has no basis for specifying what an applicant's target populations should be.

Changes: None.

Comment: One commenter requested clarification as to whether the intent of the priority is to influence the structure and design of effective State service systems at a State policy level or to influence the effectiveness of employment supports at an individual level. It was suggested that the breadth of the priority may limit the RRTC's ability to support a research agenda that has the capacity to address effectiveness of strategies used to increase employment outcomes of persons with disabilities.

Discussion: The priority allows applicants the flexibility to identify strategies that are designed to be effective at either a systems or individual level, or at both levels. The peer review process will evaluate the merits of the approaches proposed in an application.

Changes: None.

Comment: One commenter believes that the priority emphasized satisfaction with service delivery and encouraged NIDRR to disentangle the emphasis on satisfaction, employment outcomes, and access by separating research focused on satisfaction from the emphasis on access to services. The commenter also encouraged NIDRR to frame any research priority emphasizing satisfaction in the context of a broad-based process of quality improvement for services that incorporates multiple approaches for the effective participation of consumers in quality improvement of service systems. The commenter further recommended that NIDRR maintain a broad emphasis on assessing the quality of life impact of service strategies and identifying characteristics that lead to better personal outcomes.

Discussion: NIDRR believes that the priority allows an applicant the ability to propose research focused on employment outcomes, consumer satisfaction, and consumer access, and does not preclude or require examination of potential linkages between these variables for clarification purposes. Nonetheless, we are revising the language of the priority to provide for separate research outcomes for consumer access and satisfaction. NIDRR does not believe that it has a basis for requiring that all applicants apply the approaches described by the commenter or to restrict studies to independent examination of one or the other of these activities.

Changes: We have modified the language of the first outcome specified in the priority to provide for two separate outcomes: one focused on consumer access to services and the other on consumer satisfaction with services.

Comment: One commenter noted that the priority combined language in the Plan that addresses “Community-Based Employment Service Programs” and “State Service Systems”. It was suggested that NIDRR clarify whether its intent is to study effective strategies used by State agencies to expand access to employment, or whether its intent is to expand knowledge of effective strategies used by the community rehabilitation provider network.

Discussion: The described purpose of this RRTC is to identify effective strategies for use by both public and private employment service providers to improve employment outcomes for individuals with disabilities. NIDRR believes that an applicant should have the discretion to identify the specific approaches that it proposes to use in conducting the research and composition of the state service systems on which its research activities will focus. The peer review process will evaluate the merits of the approaches proposed in an application. NIDRR considers it unnecessary to specify additional requirements governing the expansion of knowledge beyond the general requirements identified for all RRTCs on the dissemination of research findings.

Changes: None.

Workplace Supports and Job Retention

Comment: One commenter noted that recent discussions by agencies, such as the Social Security Administration (SSA) and Office of Disability Employment Policy (ODEP), have begun to address the need to coordinate better adult employment services for young adults. The commenter suggested that the proposed RRTC could help to ensure that young adults are better served.

Discussion: An applicant has the discretion to propose the development and implementation of research and training activities focused on adult employment services for young adults. The peer review process will evaluate the merits of the approaches proposed in an application. NIDRR considers it unnecessary to require that all applicants under this priority address adult employment services for young adults.

Changes: None.

Comment: One commenter suggested that the priority require improved understanding of effective employer-based or workplace strategies or accommodations that improve employment outcomes. The commenter further suggested clarification of the intent of the priority to evidence a clear focus on job retention rather than job access.

Discussion: NIDRR believes that the priority should also require improved understanding of factors that influence effective employer-based or workplace strategies or accommodations that improve employment outcomes. NIDRR intends that the research activities of the RRTC will focus on workplace supports and job retention strategies rather than job access.

Changes: We have revised the language in the third bulleted paragraph of the priority to add language about factors influencing employer understanding and workplace strategies or accommodations.

Substance Abuse and Employment Outcomes Disability

Comment: Fourteen commenters noted that contributing risk factors to alcohol, tobacco, and other drug (ATOD) use include isolation, stigma, and physical pain. They suggested that the best use of the RRTC funds would be to focus on programs that examine these behaviors, their associated risk factors, and the evaluation of ATOD intervention and prevention programs for persons with disabilities.

Discussion: Applicants have the discretion to propose activities of the nature and scope described by the commenter within the context of the priority. The peer review process will evaluate the merits of the approaches proposed in an application.

Changes: None.

Comment: Seven commenters recommended that the priority specifically address the State Vocational Rehabilitation (VR) system, including State VR agencies and Centers for Independent Living, because of the large number of persons with disabilities who find employment through this system.

Discussion: NIDRR prefers to provide applicants the discretion to identify the employment service systems around which they elect to develop their research and training program. An applicant has the flexibility to specifically address the State VR system, including State VR agencies and Centers for Independent Living. The peer review process will evaluate the merits of the approaches proposed in an application.

Changes: None.

Comment: Four commenters expressed concern that the research did not address the long-term employment outcomes of persons with disabilities who have or have had substance abuse problems. These commenters suggested that such research is particularly important to facilitating the capacity of employment systems to formulate better rehabilitation plans, engage in inter-system networking to assist this population, and begin addressing the employment inequities, discrimination, and stigma for persons with disabilities and substance abuse problems.

Discussion: An applicant has the discretion to propose research activities as described by the commenter within the context of the priority. The peer review process will evaluate the merits of the approaches proposed in an application.

Changes: None.

Comment: Three commenters considered the definition of clinical treatment services to be vague. They suggested that NIDRR consider narrowing the definition to include specific programs or services, such as substance use disorder treatment programs.

Discussion: NIDRR prefers to allow applicants the flexibility to identify the clinical treatment programs or services on which their research will be focused. However, we are revising the language in the priority to identify substance use disorder treatment programs as an example of clinical treatment services that the RRTC may propose to examine.

Changes: We are revising the language in the priority to add substance use disorder treatment programs as an example of clinical treatment services.

Comment: Four commenters noted that the priority does not require investigation of the potential prevalence of substance abuse problems among various disability groups. It was suggested that NIDRR include this requirement given its critical role in planning for screening, assessment, and referral systems.

Discussion: NIDRR prefers to provide applicants the discretion to identify the target disability group(s) that its research will address. The priority as described will allow an applicant to propose research that investigates the prevalence of substance abuse programs among various disability groups. The peer review process will evaluate the merits of the approaches proposed in an application.

Changes: None.

Comment: Three commenters noted that the priority fails to address abuse of prescribed medication and its particular influence on employment outcomes for persons with disabilities.

Discussion: NIDDR believes that an applicant has the discretion to address the role of prescribed medication and its influence on employment outcomes within the context of the priority as described. The peer review process will evaluate the merits of the approaches proposed in an application.

Changes: None.

Comment: One commenter encouraged NIDRR to consider ways to identify and address traditionally underserved populations at particularly high risk of substance abuse and focus some effort on them. The commenter further suggested that applicants address access to service programs across different geographical areas, such as central city, suburban, and rural.

Discussion: NIDRR is committed to improving employment outcomes for all persons with disabilities, including traditionally underserved populations, and their access to service programs across different geographical areas, including central city, suburban, and rural. NIDRR believes that the priority as described allows an applicant the flexibility to address research and training activities that focus on specific populations, including underserved populations at particularly high risk of substance abuse, and their access to services across different geographical areas. The peer review process will evaluate the merits of the activities that an applicant proposes.

Changes: None.

[FR Doc. 04-11679 Filed 5-21-04; 8:45 am]

BILLING CODE 4000-01-P